DEPARTMENT OF COMMERCE

National Oceanic and Atmospheric Administration

50 CFR Part 648

[Docket No. 170710645-8098-02]

RIN 0648-XG162

Fisheries of the Northeastern United States; Northeast Skate Complex; Inseason Adjustment to the Skate Wing Possession Limit

AGENCY: National Marine Fisheries Service (NMFS), National Oceanic and Atmospheric Administration (NOAA), Commerce.

ACTION: Temporary rule; inseason adjustment.

SUMMARY: NMFS announces the adjustment of the commercial per-trip possession limit in the skate wing fishery for the remainder of the 2017 fishing year, through April 30, 2018, based on a revised landings projection. This possession limit adjustment is necessary to allow fishermen the opportunity to fully harvest the remaining skate wing annual total allowable landings. This announcement also informs the public that the skate wing possession limit is increased until the end of the fishing year (April 30).

DATES: Effective April 9, 2018, through April 30, 2018.

FOR FURTHER INFORMATION CONTACT: Cynthia Hanson, Fishery Management Specialist, (978) 281-9180.

SUPPLEMENTARY INFORMATION: The skate wing fishery is managed through the Northeast Skate Complex Fishery Management Plan (FMP); the regulations for which are found at 50 CFR part 648, subpart O. On December 27, 2017, we reduced the commercial skate wing possession limit from 4,100 lb (1,860 kg) of skate wings (9,307 lb (4,222 kg) whole weight) per trip to the incidental limit of 500 lb (227 kg) of skate wings (1,135 lb (515 kg) whole weight) per trip for the remainder of the fishing year (82 FR 59526). The Regional Administrator is authorized to reduce the skate wing possession limit when landings reach 85 percent of the annual total allowable landings (TAL), which occurred in December. However, this is discouraged if the reduction is expected to prevent attainment of the annual TAL. Regulations at § 648.322(b) describe this process of adjusting the commercial possession limit of skate wings.

Based on landings data reported through March 31, 2018, our revised projections indicate that under the current possession limits, the skate wing fishery will only harvest 98 percent of the annual TAL before the end of the fishing year on April 30. Because the annual TAL would not be fully utilized under the current incidental possession limit, we are authorized to adjust the possession limit in accordance with the regulations to allow the full attainment of the annual TAL. Revised projections indicate that increasing the possession limit for skate wings from 500 lb (227 kg) back to the seasonal 4,100 lb (1,860 kg) per trip for the remainder of April (and the fishing year) would better allow the annual TAL to be fully utilized while still limiting the possibility of exceeding it due to the limited time period.

This action increases the commercial skate wing possession limit from the incidental limit of 500 lb (227 kg) of skate wings (1,135 lb (515 kg) whole weight) per trip to the seasonal 4,100 lb (1,860 kg) of skate wings (9,307 lb (4,222 kg) whole weight) per trip. This action is being implemented to allow the skate wing fishery an opportunity to fully attain the annual TAL while minimizing the possibility of exceeding it. Upon filing of this notice, no person may possess on board or land more than 4,100 lb (1,860 kg) of skate wings (9,307 lb (4,222 kg) whole weight) per trip for the remainder of the 2017 fishing year, unless under specific exemption. This action applies to the skate wing fishery only and does not affect vessels fishing in accordance with a skate bait letter of authorization. On May 1, 2018, the 2018 fishing year begins, and the commercial skate wing possession limit will return to the skate wing season 1 (May 1, 2018 through August 31, 2018) possession limit of 2,600 lb (1,179 kg) of skate wings or 5,902 lb (2,677 kg) whole weight per trip.

Classification

This action is taken under 50 CFR part 648 and is exempt from review under Executive Order 12866.

The Assistant Administrator for Fisheries, NOAA, finds good cause pursuant to 5 U.S.C. 553(b)(B) to waive prior notice and the opportunity for public comment because it would be contrary to the public interest. This action ends the previous trip limit reduction in the commercial skate bait fishery, and raises the possession limit from the incidental limit to the standard season 2 limit in order to allow fishermen the opportunity to fully harvest the annual skate wing TAL. The regulations at § 648.322(b)(2)(iii) allow this by stating that trip limits should not be reduced if they prevent the attainment of the TAL. If implementation of this adjustment were delayed to solicit prior public comment, this could further prevent the fishery's ability to harvest the full TAL, thereby undermining the objectives of the Northeast Skate Complex Fishery Management Plan. This action also relieves the restriction of the former trip limit reduction in the wing fishery for the remainder of the 2017 fishing year. The Assistant Administrator further finds, pursuant to 5 U.S.C. 553(d)(3), good cause to waive the 30-day delayed effectiveness period for the reason stated above.

Authority: 16 U.S.C. 1801et seq.

Dated: April 9, 2018.
Jennifer M. Wallace,
Acting Director, Office of Sustainable Fisheries, National Marine Fisheries Service.

[FR Doc. 2018-07589 Filed 4-9-18; 4:15 pm]

BILLING CODE 3510-22-P